DEPARTMENT OF COMMERCE

National Oceanic and Atmospheric Administration

[RTID 0648-XB354]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will convene a public peer review meeting consisting of members of the Council's Scientific and Statistical Committee (SSC).

DATES: The meeting will be held on Monday, September 20, 2021, starting at 10 a.m. and continue through 4 p.m. See SUPPLEMENTARY INFORMATION for agenda details.

ADDRESSES: The meeting will take place over webinar using the Webex platform with a telephone-only connection option. Details on how to connect to the webinar by computer and by telephone will be available at: http://www.mafmc.org.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Council will convene a peer review panel consisting of members of the Council's SSC to review potential two recreational management models. These two models, a recreational fleet dynamics model and an economic recreational demand model, are being considered for use by the Council's Fishery Management Action Team (FMAT) and the Atlantic States Marine Fisheries Commission's (ASMFC) Plan Development Team (PDT) that are developing analyses, materials, and alternatives for the Council and ASMFC Recreational Reform Initiative. The potential use of these models would be part of the development of a Harvest Control Rule currently being considered as one component of the Recreational Reform action. The peer review will help identify potential benefits, uncertainties, and appropriate approaches and considerations of each model for use by the FMAT/PDT.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: August 24, 2021.
Tracey L. Thompson,
Acting Deputy Director, Office of Sustainable Fisheries, National Marine Fisheries Service.

[FR Doc. 2021-18483 Filed 8-26-21; 8:45 am]

BILLING CODE 3510-22-P